DEPARTMENT OF TRANSPORTATION

Maritime Administration

[Docket No. MARAD-2013-0098]

Notice of Request for a New Information Collection

AGENCY: Maritime Administration.

ACTION: Correction of a previous published Notice and request for comments.

SUMMARY: The Maritime Administration published a document in the Federal Register on Thursday, June 6, 2013 (78 FR 34152), concerning a request for a new information collection. In accordance with the Paperwork Reduction Act of 1995, Public Law 104-13, the Department is correcting the document as set forth below.

FOR FURTHER INFORMATION CONTACT: Barbara Jackson, U.S. Department of Transportation, Office of Management and Administrative Services, Maritime Administration, (202) 366-0615, 1200 New Jersey Avenue SE., Washington, DC 20590.

Correction

In the [Thursday, June 6, 2013], Federal Register [78, 34152], the Department [Title: Generic Clearance of Customer Satisfaction Surveys; Estimated Number of Respondents: 5800; Annual Estimated Total Annual Burden Hours: 1558].

Authority: The Paperwork Reduction Act of 1995; 44 U.S.C. Chapter 35, as amended; and 49 CFR 1:48.

Dated: August 27, 2013.
Julie P. Agarwal,
Secretary, Maritime Administration.

[FR Doc. 2013-21336 Filed 8-30-13; 8:45 am]

BILLING CODE 4910-81-P